DEPARTMENT OF ENERGY

International Energy Agency Meetings

AGENCY: Department of Energy.

ACTION: Notice of meetings.

SUMMARY: The Industry Advisory Board (IAB) to the International Energy Agency (IEA) will meet on November 16, 2010, at the headquarters of the IEA in Paris, France, in connection with a joint meeting of the IEA's Standing Group on Emergency Questions (SEQ) and the IEA's Standing Group on the Oil Market (SOM) on November 16; in connection with the IEA's Emergency Disruption Simulation Exercise (ERE5) to be held November 16-18, 2010; and on November 19, 2010, in connection with a meeting of the SEQ.

DATES: November 16-19, 2010.

ADDRESSES: 9, rue de la Fédération, Paris, France.

FOR FURTHER INFORMATION CONTACT: Diana D. Clark, Assistant General for International and National Security Programs, Department of Energy, 1000 Independence Avenue, SW., Washington, DC 20585, 202-586-3417.

SUPPLEMENTARY INFORMATION: In accordance with section 252(c)(1)(A)(i) of the Energy Policy and Conservation Act (42 U.S.C. 6272(c)(1)(A)(i)) (EPCA), the following notice of meeting is provided:

Meetings of the Industry Advisory Board (IAB) to the International Energy Agency (IEA) will be held at the headquarters of the IEA, 9, rue de la Fédération, Paris, France, on November 16, 2010, beginning at 9 a.m.; in connection with the IEA's Emergency Disruption Simulation Exercise (ERE5) on November 16-18, 2010; and on November 19, 2010, commencing at 9 a.m. The purpose of this notice is to permit attendance by representatives of U.S. company members of the IAB at a joint meeting of the IEA's Standing Group on Emergency Questions (SEQ) and the IEA's Standing Group on the Oil Market (SOM) on November 16, which is scheduled to be held at the headquarters of the IEA commencing at 9 a.m., and a meeting of the SEQ, which is scheduled to be held at the same location beginning at 9 a.m. on November 19; and participation in the IEA's Emergency Disruption Simulation Exercise, which is scheduled to be conducted at the same location from 2 p.m.-5:30 p.m. on November 16, from 9 a.m.-6 p.m. on November 17, and from 9 a.m.-6 p.m. on November 18. The purpose of ERE5 is to train IEA Government delegates in the use of IEA emergency response procedures by reacting to a hypothetical oil supply disruption scenario.

The agenda of the joint SEQ/SOM meeting on November 16 is under the control of the SEQ and the SOM. It is expected that the SEQ and the SOM will adopt the following agenda:

1. Adoption of the Agenda.

2. Approval of the Summary Record of the June 2010 Joint Meeting.

3. Reports on Recent Oil Market and Policy Developments in IEA Countries.

4. The 2011-2012 Program of Work for the SOM and SEQ.

—Possible Future Projects for the Oil Industry and Markets Division and the Emergency Policy Division.

5. The Current Oil Market Situation.

6. Oil Price Formation.

—Oral Report by the Secretariat.

7. Assessing the Drivers and Impacts of Overseas Investments by China's National Oil Companies.

8. Update on the Gas Market.

9. Other Business.

—Tentative Schedule of Meetings for 2011:

—March 22-24 SOM and SEQ Meetings.

—June 28-30 SOM and SEQ Meetings.

—November 15-17 SOM and SEQ Meetings.

The agenda for ERE5 is under the control of the IEA. It is expected that the IEA will adopt the following agenda:

I. Training Session for New SEQ Participants and Selected IEA Non-Member Countries

1. Welcome to the IEA.

2. Opening Session Address.

3. Introduction to IEA Emergency Response Policies and Objectives.

4. How the Global Oil Market Works.

5. Natural Gas Market.

6. IEA Energy Statistics and Oil Data Systems.

7. The Media's Perspective.

8. The Oil Disruption Simulation Exercise (ERE5).

II. Disruption Simulation

Day 1

1. Welcome.

2. Simulation (Breakout Groups).

3. Discussion (Plenary).

4. Simulation (Breakout Groups).

5. Discussion (Plenary).

Day 2

6. Introduction (Plenary).

7. Simulation (Breakout Groups).

8. Discussion (Plenary).

9. Simulation (Breakout Groups).

10. Discussion and Wrap-Up (Plenary).

The agenda of the SEQ meeting on November 19 is under the control of the SEQ. It is expected that the SEQ will adopt the following agenda:

1. Adoption of the Agenda.

2. Approval of the Summary Record of the 130th Meeting.

3. Status of Compliance with IEP Stockholding Commitments.

4. Emergency Response Review Program.

—Schedule of Emergency Response Reviews.

—Emergency Response Review of Norway.

—Emergency Response Review of Denmark.

—Questionnaire Response of Poland.

—Questionnaire Response of Spain.

—Questionnaire Response of the Slovak Republic.

5. Emergency Policy for Natural Gas.

—Update on the Questionnaire on Gas Security.

—The Use of Oil Stocks During Gas Disruptions (Governing Board Decision).

6. Emergency Response Exercise 5 (ERE 5).

—Roundtable Discussion on the Exercise.

7. Cooperation with Non-Member Countries During Supply Disruptions.

—Draft Discussion Paper for Governing Board.

8. Emergency Response Measures.

—Report on the Workshop on Industry Stocks (June 29).

—Fuel Switching Questionnaire.

9. Policy and Other Developments in Member Countries.

—Czech Republic.

—France.

—Japan.

—United States.

10. Activities with International Organizations and Non-Member Countries.

—APEC Emergency Response Training Week.

—Thailand: Emergency Response Assessment.

—Upcoming Workshops in China.

—Chile.

—Update on Cooperation with the APEC Energy Working Group.

—Indonesia.

—Energy Community Oil Forum.

11. Documents for Information.

—Emergency Reserve Situation of IEA Member Countries on July 1, 2010.

—Base Period Final Consumption: 3Q 2009-2Q 2010.

—Updated Emergency Contacts List.

12. Other Business.

—Tentative Schedule of Meetings for 2011:

—March 22-24 SOM and SEQ Meetings.

—June 28-30 SOM and SEQ Meetings.

—November 15-17 SOM and SEQ Meetings.

As provided in section 252(c)(1)(A)(ii) of the Energy Policy and Conservation Act (42 U.S.C. 6272(c)(1)(A)(ii)), the meetings of the IAB are open to representatives of members of the IAB and their counsel; representatives of members of the IEA's Standing Group on Emergency Questions and the IEA's Standing Group on the Oil Markets; representatives of the Departments of Energy, Justice, and State, the Federal Trade Commission, the General Accounting Office, Committees of Congress, the IEA, and the European Commission; and invitees of the IAB, the SEQ, the SOM, or the IEA.

Issued in Washington, DC, on October 29, 2010.
Diana D. Clark,
Assistant General Counsel for International and National Security Programs.

[FR Doc. 2010-27742 Filed 11-2-10; 8:45 am]

BILLING CODE 6450-01-P